DEPARTMENT OF HEALTH AND HUMAN SERVICES

Administration for Children and Families

Proposed Information Collection Activity; Sexual Risk Avoidance Education Program Performance Analysis Study—Extension (Office of Management and Budget (OMB) #0970-0536)

AGENCY: Office of Planning, Research, and Evaluation, Administration for Children and Families, Department of Health and Human Services.

ACTION: Request for public comments.

SUMMARY: The Office of Planning, Research, and Evaluation (OPRE) and the Family and Youth Services Bureau in the Administration for Children and Families (ACF) request an extension without changes of a currently approved information collection activity as part of the Sexual Risk Avoidance Education (SRAE) Program Performance Analysis Study (PAS). The goal of the study is to collect, analyze, and report on performance measures data for the SRAE program (OMB Control No. 0970-0536; expiration date 1/31/2025). The purpose of the requested extension is to continue the ongoing data collection and submission of the performance measures by SRAE grant recipients.

DATES: Comments due November 15, 2024. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The purpose of the SRAE program is to educate youth on how to voluntarily refrain from nonmarital sexual activity and prevent other youth risk behaviors. Data will continue to be used to determine if the SRAE grant recipients are meeting performance benchmarks related to their program's mission and priorities.

The SRAE PAS collects performance measures data from SRAE grant recipients, program providers, and participants. The data include information on program structure, cost, and support for implementation; program attendance, reach, and dosage; the characteristics of youth involved in programming; youth sexual and other risky behavior prior to program participation; and youth sexual and other risky behavior intentions at program exit. The performance measures help the ACF program office and grant recipients to monitor and report on progress in implementing SRAE programs and inform technical assistance.

Some of the performance measures data come from youth participants through surveys SRAE grant recipients administer at program entry and exit. There are separate versions of the entry and exit surveys for middle school youth, which exclude some of the more sensitive items that are included in the versions for high school and older youth. There is also a shorter version of the entry survey for programs conducting impact studies, to reduce the burden on participants in those programs who are likely responding to other surveys as part of their impact study. Although there was a version of the exit survey for programs conducting impact studies in the past, it was removed through the previous OMB request, and youth in these programs now complete the same version of the exit survey as other youth.

ACF is currently working on future revisions to this information collection, which will be submitted to OMB for review and approval in 2025. Notices inviting public comment on those revisions will accompany that request, but comments received in response to this notice could also inform those revisions.

Respondents: General Departmental (GDSRAE), State (SSRAE), and Competitive (CSRAE) grant recipients, their subrecipients, and program participants.

Annual Burden Estimates
Instrument | Number of respondents (total over request period) | Number of responses per respondent (total over request period) | Average burden per response (in hours) | Total/ annual burden (in hours)
(1) Participant Entry Survey:
GDSRAE participants | 126,130 | 1 | 0.1333 | 16,813
SSRAE participants | 317,633 | 1 | 0.1333 | 42,340
CSRAE participants | 20,136 | 1 | 0.1333 | 2,684
(2) Participant Exit Survey:
GDSRAE participants | 100,904 | 1 | 0.1667 | 16,821
SSRAE participants | 254,106 | 1 | 0.1667 | 42,360
CSRAE participants | 16,109 | 1 | 0.1667 | 2,685
(3) Performance reporting data entry form: grant recipients:
GDSRAE grant recipients | 119 | 2 | 16 | 3,808
SSRAE grant recipients | 39 | 2 | 16 | 1,248
CSRAE grant recipients | 34 | 2 | 16 | 1,088
(4) Performance reporting data entry form: subrecipients:
GDSRAE subrecipients | 252 | 2 | 13 | 6,552
SSRAE subrecipients | 426 | 2 | 13 | 11,076
CSRAE subrecipients | 63 | 2 | 13 | 1,638

Estimated Total Annual Burden Hours: 149,113.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C 1310.

Mary C. Jones,
ACF/OPRE Certifying Officer.

[FR Doc. 2024-20953 Filed 9-13-24; 8:45 am]

BILLING CODE 4184-73-P